DEPARTMENT OF COMMERCE

National Oceanic and Atmospheric Administration

[RTID 0648-XA735]

Taking and Importing Marine Mammals; Taking Marine Mammals Incidental to Training Activities in the Gulf of Alaska Temporary Maritime Activities Area

Correction

In notice document 2020-28694, appearing on pages 1483 through 1484 in the issue of Friday, January 8, 2021 make the following correction.

On page 1483, in the second column, in the DATES section, on the second and third lines, “January 29, 2021” should read “February 8, 2021”.

[FR Doc. C1-2020-28694 Filed 1-29-21; 8:45 am]

BILLING CODE 1300-01-D